DEPARTMENT OF TRANSPORTATION

Surface Transportation Board

[STB Finance Docket No. 33968]

Safe Handling Rail, Inc.—Operation Exemption—Maine Coast Railroad Corporation, Maine Central Railroad Company, Springfield Terminal Railway Company, and State of Maine Department of Transportation

Safe Handling Rail, Inc. (SHR), a noncarrier, has filed a verified notice of exemption under 49 CFR 1150.31 to acquire, by assignment, the operating rights of Maine Coast Railroad Corporation (MECO) over approximately 5.76 route miles of rail line in Rockland, Sagadahoc County, ME (subject line), between milepost 28.03 (Church Road) and milepost 33.79 (Hardings).¹ In addition, SHR also will acquire MECO's incidental overhead trackage rights on the rail line between milepost 27.5 and milepost 33.79 (trackage rights).² The State of Maine Department of Transportation (MDOT) owns the subject line, and MEC and STR have residual common carrier obligations on the subject line.³ Certain traffic handled by SHR to and from the Bath Iron Works at Hardings, ME, will be handled in the account of MEC/STR, just as it has been handled by MECO.

¹ MECO acquired the authority to operate the subject line in Maine Coast Railroad Corporation—Operation Exemption—Maine Central Railroad Company and Springfield Terminal Railway Company, Finance Docket No. 32272 (ICC served June 21, 1993).

² MECO was granted trackage rights by Maine Central Railroad Corporation (MEC) and Springfield Terminal Railway Company (STR) in Maine Coast Railroad Corporation—Trackage Rights Exemption—Maine Central Railroad Company and Springfield Terminal Railway Company, Finance Docket No. 31768 (ICC served Nov. 26, 1990).

³ SHR will replace MECO as the operator of the subject line and trackage rights, and MECO will have no further rail carrier rights or obligations on the subject line or trackage rights line. In a related proceeding, SHR has filed a notice for a modified certificate of public convenience and necessity to operate MDOT's rail lines (i) between milepost 33.79, in Brunswick, ME, and milepost 85.55, in Rockland, ME, and (ii) between milepost 29.40, at Rock Junction, in Brunswick, and milepost 63.00, in Augusta, ME. See Safe Handling Rail, Inc.—Modified Rail Certificate, STB Finance Docket No. 33967.

The transaction is expected to be consummated on or soon after December 8, 2000, the effective date of the exemption (7 days after the exemption was filed).

If the notice contains false or misleading information, the exemption is void ab initio. Petitions to reopen the proceeding to revoke the exemption under 49 U.S.C. 10502(d) may be filed at any time. The filing of a petition to reopen will not automatically stay the transaction.

An original and 10 copies of all pleadings, referring to STB Finance Docket No. 33968, must be filed with the Surface Transportation Board, Office of the Secretary, Case Control Unit, 1925 K Street, N.W., Washington, DC 20423-0001. In addition, a copy of each pleading must be served on Bruce A. Coggeshall, Esq., Pierce Atwood, One Monument Square, Portland, ME 04101.

Board decisions and notices are available on our website at “WWW.STB.DOT.GOV.”

Decided: December 7, 2000.
By the Board, David M. Konschnik, Director, Office of Proceedings.
Vernon A. Williams,
Secretary.

[FR Doc. 00-31879 Filed 12-14-00; 8:45 am]

BILLING CODE 4915-00-P